DEPARTMENT OF COMMERCE

Submission for OMB Review; Comment Request

The Department of Commerce (DOC) has submitted to the Office of Management and Budget (OMB) for clearance of the following proposal for collection of information under provisions of the Paperwork Reduction Act (44 U.S.C. Chapter 35).

Agency: Bureau of Export Administration (BXA).

Title: Application for a Duplicate License.

Agency Form Number: None.

OMB Approval Number: 0694-0031.

Type of Request: Extension of a currently approved collection of information.

Burden: 27 hours.

Average Time Per Response: 15 minutes per response.

Number of Respondents: 100 respondents.

Needs and Uses: This collection of information is necessary to identify original export licenses of respondents who request duplicate export licenses for lost or destroyed licenses.

Affected Public: Individuals, businesses or other for-profit institutions.

Respondent's Obligation: Required to obtain or retain a benefit.

OMB Desk Officer: David Rostker, (202) 395-3897.

Copies of the above information collection proposal can be obtained by calling or writing Linda Engelmeier, DOC Forms Clearance Officer, (202) 482-3272, Department of Commerce, Room 6086, 14th Street and Constitution Avenue, NW, Washington DC 20230 (or via the Internet at lengelme@doc.gov).

Written comments and recommendations for the proposed information collection should be sent within 30 days of publication of this notice to David Rostker, OMB Desk Officer, Room 10202, New Executive Office Building, Washington, D.C. 20503.

Dated: August 15, 2000.
Madeleine Clayton,
Management Analyst, Office of the Chief Information Officer.

[FR Doc. 00-21244 Filed 8-18-00; 8:45 am]

BILLING CODE 3510-33-P